DEPARTMENT OF COMMERCE

National Oceanic and Atmospheric Administration

[RTID 0648-XA228]

Pacific Fishery Management Council; Public Meeting

AGENCY: National Marine Fisheries Service (NMFS), National Oceanic and Atmospheric Administration (NOAA), Commerce.

ACTION: Notice of public meeting.

SUMMARY: The Pacific Fishery Management Council's (Council) Climate and Communities Core Team (CCCT) will hold an online meeting, which is open to the public.

DATES: The online meeting will be held Wednesday, July 1, 2020, from 1:30 to 4:30 p.m.

ADDRESSES: This meeting will be held online. Specific meeting information, including directions on how to join the meeting and system requirements will be provided in the meeting announcement on the Council's website (see www.pcouncil.org). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The CCCT is overseeing a climate change scenario planning process as part of the Council's Fishery Ecosystem Plan Climate and Communities Initiative. During this meeting, the CCCT will discuss finalization of four scenarios that describe possible conditions facing West Coast fisheries and communities, over the period 2020-2040. These scenarios were initially developed at a January 2020 workshop and at the direction of the Council have been undergoing refinement. Based on input from Council advisory bodies, the CCCT will finalize the scenarios for use in phase two of the scenario planning process. The second phase will use a series of workshops to consider the policy and strategic planning implications of conditions described in the scenarios. The CCCT will also begin planning these workshops during this meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: June 10, 2020.
Tracey L. Thompson,
Acting Deputy Director, Office of Sustainable Fisheries, National Marine Fisheries Service.

[FR Doc. 2020-12836 Filed 6-12-20; 8:45 am]

BILLING CODE 3510-22-P